DEPARTMENT OF COMMERCE

International Trade Administration

[A-423-808]

Stainless Steel Plate in Coils From Belgium: Preliminary Results of Antidumping Duty Administrative Review

AGENCY: Import Administration, International Trade Administration, U.S. Department of Commerce.

SUMMARY: The Department of Commerce (the Department) is conducting an administrative review of the antidumping duty order on stainless steel plate in coils (SSPC) from Belgium. For the period May 1, 2006, through April 30, 2007, we have preliminarily determined that U.S. sales have been made below normal value (NV). If these preliminary results are adopted in our final results, we will instruct U.S. Customs and Border Protection (CBP) to assess antidumping duties based on the difference between the constructed export price (CEP) and NV. See “Preliminary Results of Review” section of this notice. Interested parties are invited to comment on these preliminary results.

EFFECTIVE DATE: June 6, 2008.

FOR FURTHER INFORMATION CONTACT: Cindy Robinson or George McMahon, AD/CVD Operations, Office 3, Import Administration, International Trade Administration, U.S. Department of Commerce, 14th Street and Constitution Avenue, NW., Washington DC 20230; telephone (202) 482-3797 or (202) 482-1167, respectively.

Background

On May 1, 2007, the Department issued a notice of opportunity to request an administrative review of this order for the period of review (POR) May 1, 2006, through April 30, 2007. See Antidumping or Countervailing Duty Order, Finding, or Suspended Investigation; Opportunity to Request Administrative Review, 72 FR 23796 (May 1, 2007). On May 31, 2007, the Department received timely requests for an administrative review of this order from the Petitioners, Allegheny Ludlum Corporation, North American Stainless, United Auto Workers Local 3303, Zanesville Armco Independent Organization, and the United Steelworkers of America, AFL-CIO/CLC (collectively, Petitioners), and the respondent, Ugine & ALZ Belgium (U&A Belgium), respectively. On June 29, 2007, we published a notice initiating an administrative review of the antidumping duty order on SSPC from Belgium covering one respondent, U&A Belgium. See Initiation of Antidumping and Countervailing Duty Administrative Reviews, Request for Revocation in Part and Deferral of Administrative Review, 72 FR 35690 (June 29, 2007).

On May 11, 2007, the Department received a request from U&A Belgium for a scope determination that the antidumping and countervailing duty orders on SSPC from Belgium exclude stainless steel products with an actual thickness less than 4.75mm, regardless of nominal thickness. The Department initiated a formal scope inquiry of the SSPC orders ¹ on July 23, 2007. On November 16, 2007, and on January 15, 2008, the Department extended the deadline to issue a final scope ruling under 19 CFR 351.302(b). See Memoranda To All Interested Parties RE: Stainless Steel Plate in Coils from Belgium Scope Inquiry, dated November 16, 2007 and January 15, 2008, respectively.

¹ See Notice of Amended Final Determinations: Stainless Steel Plate in Coils from Belgium and South Africa; and Notice of Countervailing Duty Orders: Stainless Steel Plate in Coils from Belgium, Italy and South Africa, 64 FR 25288 (May 11, 1999); Antidumping Duty Orders; Certain Stainless Steel Plate in Coils From Belgium, Canada, Italy, the Republic of Korea, South Africa, and Taiwan, 64 FR 27756 (May 21, 1999); Notice of Amended Antidumping Duty Orders; Certain Stainless Steel Plate in Coils From Belgium, Canada, Italy, the Republic of Korea, South Africa, and Taiwan, 68 FR 11520 (March 11, 2003); and Amended Countervailing Duty Orders; Certain Stainless Steel Plate in Coils From Belgium, Italy, and South Africa, 68 FR 11524 (March 11, 2003).

On July 13, 2007, the Department issued a questionnaire to U&A Belgium. We received U&A Belgium's response to Section A of the Department's questionnaire on September 11, 2007, and Sections B-D on September 28, 2007. On January 18, 2008, the Department issued an extension of the deadline for the preliminary results of this antidumping duty administrative review from January 31, 2008, until May 30, 2008. See Stainless Steel Plate in Coils From Belgium: Notice of Extension of Time Limit for Preliminary Results of Administrative Review, 73 FR 3453 (January 18, 2008).

On October 29, 2007, the Department received comments from the Petitioners on the Sections A through C responses for U&A Belgium. On January 24, 2008, the Petitioners submitted comments requesting that the Department conduct verification of the responses submitted by U&A Belgium. On February 5, 2008, U&A Belgium submitted comments urging the Department to reject the request for verification made by the Petitioners. After reviewing the Sections A through D responses from U&A Belgium, the Department issued supplemental questionnaires to U&A Belgium. The Department issued additional supplemental questions, after reviewing U&A Belgium's supplemental questionnaire response. On January 18, 2008, the Department postponed the preliminary results by 120 days. See Stainless Steel Plate in Coils From Belgium: Notice of Extension of Time Limit for Preliminary Results of Administrative Review, 73 FR 3453 (January 18, 2008).

U&A Belgium's Reported Merger

U&A Belgium reported that it is wholly owned by Arcelor S.A. and stated that Arcelor S.A. is in the process of merging with Mittal Steel, N.V. (Mittal) to form Arcelor Mittal S.A. Specifically, U&A Belgium reported that “{i}n June 2006, Arcelor and Mittal Steel signed a memorandum of understanding outlining the terms of a merger. The subsequent merger agreement was signed in May 2007.” See U&A Belgium's September 11, 2007, Section A Questionnaire Response at 10. U&A Belgium stated that the merger was structured as a two-step process. The first step, the merger of Mittal Steel into its wholly owned non-operating subsidiary ArcelorMittal, was completed in August 2007. The second step, the integration of ArcelorMittal into Arcelor S.A., was completed in November 2007, and the company was immediately renamed ArcelorMittal. As a result, the entire merger is now complete, effective November 2007. U&A Belgium stated that “{w}hile the merger was not technically completed during the review period, U&A Belgium prepared its responses to the Department's questionnaires as if ArcelorMittal were fully consolidated.” See U&A Belgium's April 15, 2008, Sections A-C Supplemental Questionnaire Response (April 15, 2008 SQR) at 1. U&A Belgium also reported “that the merger has had no impact on U&A Belgium's production and sale of subject merchandise. In particular, there has been no change to U&A Belgium's inputs from affiliates within the review period resulting from the merger with Mittal Steel. There has also been no change to U&A Belgium's sales to affiliates within the POR resulting from the merger with Mittal Steel.” Id. at 2.

Quarterly Costs

In its Section A-C questionnaire response dated January 29, 2008, at 39-44, U&A Belgium provided information regarding its input costs for the POR and claimed that the use of a single weighted average for the POR would distort the margin calculations. Therefore, instead of using single weighted-average CONNUM-specific costs for the POR, U&A Belgium urged the Department to consider employing a quarterly weighted-average cost methodology in this segment of the proceeding. On March 17, 2008, the Petitioners submitted comments claiming that the Department's standard practice of using a single weighted-average cost for the POR remains proper in the instant case. As a result, the Petitioners urge the Department to reject U&A Belgium's proposal to use quarterly weighted-average costs in this administrative review. On May 15, 2008, U&A Belgium provided rebuttal comments attesting that the record evidence and the extraordinary circumstances present in this review warrant a departure from the Department's normal practice of using annual costs. On May 22, 2008, the Petitioners submitted additional comments reiterating their claim that it is inappropriate for the Department to use quarterly costs in this review. The Petitioners argue that U&A Belgium has provided insufficient quantitative and qualitative analyses, particularly related to pricing practices and trends in the home market, to support using a quarterly cost methodology. On May 27, 2008, U&A Belgium submitted comments that rebut the comments addressed in the Petitioner's May 22, 2008, letter. Specifically, U&A Belgium rebuts that quarterly cost periods can be quantified, there is a sufficient number of sales to determine that prices changed significantly over the POR, and the alloy surcharge mechanism is a pass-through pricing mechanism. Furthermore, U&A Belgium contends that certain proprietary issues discussed by the Petitioners are irrelevant to the issue of quarterly costs, U&A Belgium correctly calculated its reported finance expenses, and there is no need for verification in this review.

The Department considered the sales and cost information reported by U&A Belgium, in addition to the comments submitted by both the Petitioners and U&A Belgium. Based on our analysis, we preliminarily find that it is appropriate to use U&A Belgium's annual weighted-average costs for this review. The Department recently requested public comment regarding the impact of cost changes on the cost averaging period. See Antidumping Methodologies for Proceedings that Involve Significant Cost Changes Throughout the Period of Investigation (POI)/Period of Review (POR) that May Require Using Shorter Cost Averaging Periods; Request for Comment, 73 FR 26364 (May 9, 2008) (Antidumping Methodologies; Request for Comment). Although the Department has calculated U&A Belgium's costs on an annual basis for these preliminary results, we intend to consider this issue further within the context of our analysis of the comments that will be received, pursuant to the Antidumping Methodologies; Request for Comment. We expect to provide a memorandum discussing the results of our analysis of the comments received, in order to give the parties to this proceeding an opportunity to comment for the final determination.

Scope of the Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils, (2) plate that is not annealed or otherwise heat treated and pickled or otherwise descaled, (3) sheet and strip, and (4) flat bars.

The merchandise subject to this order is currently classifiable in the Harmonized Tariff Schedule of the United States (HTSUS) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to this order is dispositive.

Analysis

Product Comparisons

In accordance with section 771(16) of the Tariff Act of 1930, as amended (the Act), we considered all products produced by the respondent that are covered by the description contained in the “Scope of the Order” section above and were sold in the home market during the POR, to be the foreign like product for purposes of determining appropriate product comparisons to U.S. sales. Where there were no sales of identical merchandise in the home market to compare to U.S. sales, we compared U.S. sales to the most similar foreign like product on the basis of the characteristics listed in Appendix V of the initial antidumping questionnaire we provided to U&A Belgium. See U&A Belgium Antidumping Questionnaire, dated July 13, 2007, on the record in the Central Records Unit (CRU), Room 1117 of the Main Commerce Building.

Normal Value Comparisons

To determine whether sales of subject merchandise to the United States were made at less than normal value, we compared CEP to NV, as described in the “Constructed Export Price” and “Normal Value” sections of this notice. In accordance with section 777A(d)(2) of the Act, we calculated monthly weighted-average prices for NV and compared these to individual U.S. transaction prices.

Home Market Viability

In accordance with section 773(a)(1)(C) of the Act, to determine whether there was a sufficient volume of sales in the home market to serve as a viable basis for calculating NV, we compared U&A Belgium's volume of home market sales of the foreign like product to the volume of U.S. sales of the subject merchandise. Pursuant to section 773(a)(1)(B) and 19 CFR 351.404(b), because U&A Belgium's aggregate volume of home market sales of the foreign like product was greater than 5 percent of its aggregate volume of U.S. sales of the subject merchandise, we determined that the home market was viable. Moreover, there is no evidence on the record supporting a particular market situation in the exporting company's country that would not permit a proper comparison of home market and U.S. prices.

Constructed Export Price

In accordance with section 772(b) of the Act, CEP is the price at which the subject merchandise is first sold (or agreed to be sold) in the United States before or after the date of importation by or for the account of the producer or exporter of such merchandise, or by a seller affiliated with the producer or exporter, to a purchaser not affiliated with the producer or exporter.

As stated at 19 CFR 351.401(i), the Department will use the respondent's invoice date as the date of sale unless another date better reflects the date upon which the exporter or producer establishes the essential terms of sale. U&A Belgium reported the invoice date as the date of sale for both the U.S. market and the home market because the date of invoice reflects the date on which the material terms of sale were finalized.

For purposes of this review, U&A Belgium classified all of its export sales of SSPC to the United States as CEP sales. During the POR, U&A Belgium made sales in the United States through its U.S. affiliate, Arcelor Stainless USA (AS USA), which then resold the merchandise to unaffiliated customers in the United States. The Department calculated CEP based on packed prices to customers in the United States. We made deductions from the starting price, net of discounts, for movement expenses (foreign and U.S. movement, U.S. customs duty and brokerage, and post-sale warehousing) in accordance with section 772(c)(2) of the Act and 19 CFR 351.401(e). In addition, because U&A Belgium reported CEP sales, in accordance with section 772(d)(1) of the Act, we deducted from the starting price, credit expenses, warranty expenses, and indirect selling expenses, including inventory carrying costs, incurred in the United States and Belgium and associated with economic activities in the United States.

Normal Value

In accordance with section 773(a)(1)(B)(i) of the Act, we have based NV on the price at which the foreign like product was first sold for consumption in the home market, in the usual commercial quantities and in the ordinary course of trade. In addition, because the NV level of trade (LOT) is at a more advanced stage of distribution than the CEP LOT, and available data provide no appropriate basis to determine an LOT adjustment between NV and CEP, we made a CEP offset pursuant to section 773(a)(7)(B) of the Act (see “Level of Trade” section, below).

We used sales to affiliated customers only where we determined such sales were made at arm's-length prices (i.e., at prices comparable to the prices at which the respondent sold identical merchandise to unaffiliated customers).

Arm's-Length Test

Sales to affiliated customers in the home market not made at arm's length were excluded from our analysis. To test whether these sales were made at arm's length, we compared the starting prices of sales to affiliated and unaffiliated customers net of all movement charges, direct selling expenses, discounts, and packing. In accordance with the Department's current practice, if the prices charged to an affiliated party were, on average, between 98 and 102 percent of the prices charged to unaffiliated parties for merchandise identical or most similar to that sold to the affiliated party, we consider the sales to be at arm's-length prices. See 19 CFR 351.403(c). Conversely, where the affiliated party did not pass the arm's-length test, all sales to that affiliated party have been excluded from the NV calculation. See Antidumping Proceedings: Affiliated Party Sales in the Ordinary Course of Trade, 67 FR 69186 (November 15, 2002).

Cost of Production

The Department disregarded sales below the cost of production (COP) in the last completed review. See Stainless Steel Plate in Coils From Belgium: Final Results of Antidumping Administrative Review, 70 FR 72789 (December 7, 2005). We therefore have reasonable grounds to believe or suspect, pursuant to section 773(b)(2)(A)(ii) of the Act, that sales of the foreign like product under consideration for the determination of NV in this review may have been made at prices below COP. Thus, pursuant to section 773(b)(1) of the Act, we examined whether U&A Belgium's sales in the home market were made at prices below the COP.

We compared sales of the foreign like product in the home market with model-specific COP figures. In accordance with section 773(b)(3) of the Act, we calculated COP based on the sum of the costs of materials and fabrication employed in producing the foreign like product, plus selling, general and administrative (SG&A) expenses, financial expenses and all costs and expenses incidental to placing the foreign like product in packed condition and ready for shipment. In our sales-below-cost analysis, we relied on home market sales and COP information provided by U&A Belgium in its questionnaire responses, except for the reported financial expense ratio. We made adjustments to the consolidated financial expense ratio to exclude long-term interest income and include certain financial costs and gains recognized by the parent company in its 2006 fiscal year income statement. See Memorandum from Angela Strom, Accountant, to Neal Halper, Director, Office of Accounting, entitled “Cost of Production and Constructed Value Calculation Adjustments for the Preliminary Determination Results—U&A Belgium,” dated May 30, 2008.

We compared the weighted-average model-specific COPs to home market sales of the foreign like product, as required under section 773(b) of the Act, in order to determine whether these sales had been made at prices below the COP. In determining whether to disregard home market sales made at prices below the COP, we examined whether such sales were made (1) within an extended period of time in substantial quantities, and (2) at prices which did not permit recovery of all costs within a reasonable period of time in the normal course of trade, in accordance with sections 773(b)(1)(A) and (B) of the Act. On a product-specific basis, we compared the COP to home market prices, less any movement charges, discounts, and direct and indirect selling expenses.

Pursuant to section 773(b)(2)(C) of the Act, where less than 20 percent of the respondent's sales of a given product were at prices which represent less than the COP, we did not disregard any below-cost sales of that product because the below-cost sales were not made in substantial quantities within an extended period of time. Where 20 percent or more of the respondent's sales of a given product were at prices which represented less than the COP, we determined that they were made in substantial quantities within an extended period of time, in accordance with section 773(b)(2)(C) of the Act. Because we compared prices to POR-average costs, we also determined that the below-cost prices did not permit the recovery of costs within a reasonable period of time, in accordance with section 773(b)(1)(B) of the Act. Therefore, we disregarded the below-cost sales and used the remaining sales, if any, as the basis for NV, in accordance with section 773(b)(1) of the Act.

CEP to NV Comparison

For those sales at prices above COP, we based NV on home market prices to affiliated (when made at prices determined to be at arm's length) or unaffiliated parties, in accordance with 19 CFR 351.403. Home market starting prices were based on packed prices to affiliated or unaffiliated purchasers in the home market, net of discounts. We made adjustments, where applicable, for packing and movement expenses, in accordance with sections 773(a)(6)(A) and (B) of the Act. We also made adjustments for differences in costs attributable to differences in physical characteristics of the merchandise pursuant to section 773(a)(6)(C)(ii) of the Act. For comparison to CEP, we deducted home market direct selling expenses pursuant to section 773(a)(6)(C)(iii) of the Act and 19 CFR 351.410(c).

Section 773(a)(4) of the Act provides that where NV cannot be based on comparison-market sales, NV may be based on constructed value (CV). Accordingly, for those products for which we could not determine the NV based on comparison-market sales, either because there were no useable sales of a comparable product or all sales of the comparable products failed the COP test, we based NV on CV.

Section 773(e) of the Act provides that CV shall be based on the sum of the cost of materials and fabrication for the imported merchandise, plus amounts SG&A and interest expenses, profit, and U.S. packing costs. We calculated the cost of materials and fabrication based on the methodology described in the “Cost of Production Analysis” section, above. We based SG&A and interest expenses and profit on the actual amounts incurred and realized by respondent in connection with the production and sale of the foreign like product in the ordinary course of trade for consumption in the home market, in accordance with section 773(e)(2)(A) of the Act.

We made adjustments to CV for differences in circumstances of sale in accordance with section 773(a)(8) of the Act and 19 CFR 351.410. For comparisons to CEP, we made circumstance-of-sale adjustments by deducting comparison market direct selling expenses from CV. See 19 CFR 351.410(c).

Level of Trade

In accordance with section 773(a)(1)(B)(i) of the Act, to the extent practicable, we determined NV based on sales in the comparison market at the same LOT as the U.S. sales. See 19 CFR 351.412. The NV LOT is the level of the starting-price sale in the comparison market or, when NV is based on CV, the level of the sales from which we derive SG&A and profit. For EP, the U.S. LOT is also the level of the starting-price sale, which is usually from exporter to importer. For CEP, it is the level of the constructed sale from the exporter to the importer. See 19 CFR 351.412. As noted above, U&A Belgium classified all its exported sales of SSPC as CEP sales.

To determine whether NV sales are at a different LOT than CEP, we examine stages in the marketing process and selling functions along the chain of distribution between the producer and the unaffiliated customer. If the comparison-market sales are at a different LOT, and the difference affects price comparability, as manifested in a pattern of consistent price differences between the sales on which NV is based and comparison-market sales at the LOT of the export transaction, we make a LOT adjustment under section 773(a)(7)(A) of the Act. For CEP sales, if the NV level is at a more advanced stage of distribution than the CEP LOT and the data available do not provide a basis to determine a LOT adjustment, we adjust NV under section 773(a)(7)(B) of the Act (the CEP offset provision). See, e.g., Final Determination of Sales at Less Than Fair Value: Greenhouse Tomatoes From Canada, 67 FR 8781 (February 26, 2002); see also Notice of Final Determination of Sales at Less than Fair Value: Certain Cut-to-Length Carbon Steel Plate from South Africa, 62 FR 61731 (November 19, 1997) and Certain Hot-Rolled Flat-Rolled Carbon Quality Steel Products from Brazil; Preliminary Results of Antidumping Duty Administrative Review, 70 FR 17406 (April 6, 2005). For CEP sales, we consider only the selling activities reflected in the price after the deduction of expenses and CEP profit under section 772(d) of the Act. See Micron Technology Inc. v. United States, 243 F.3d 1301, 1314-1315 (Fed. Cir. 2001). We expect that, if the claimed LOTs are the same, the functions and activities of the seller should be similar. Conversely, if a party claims that the LOTs are different for different groups of sales, the functions and activities of the seller should be dissimilar. See Porcelain-on-Steel Cookware from Mexico: Final Results of Administrative Review, 65 FR 30068 (May 10, 2000).

In the current review, U&A Belgium reported seven customer categories and indicated that its sales were made at a single channel of distribution for the sale of SSPC in Belgium through one LOT in the comparison market. Specifically, U&A Belgium reported that it sells SSPC to customers in the home market through its affiliated sales agents, U&A Benelux (regional sales office) and U&A S.A. (principal sales agent). U&A Belgium performs a variety of distinct selling functions in the comparison market. See Appendix A-15 of the September 11, 2007, Questionnaire Response. We examined the selling functions performed for the seven customer categories and found that the selling activities and services do not vary among them. See Memorandum from George McMahon to The File “Calculation Memorandum for Ugine & ALZ, N.V. Belgium (U&A Belgium) for the Preliminary Results of the Sixth Administrative Review of Stainless Steel Plate in Coils (SSPC) from Belgium,” dated May 30, 2008 (Sales Calculation Memorandum). Therefore, we preliminarily conclude that U&A Belgium's sales in the home market constitute one LOT.

U&A Belgium reported two channels of distribution and two LOTs in the U.S. market. U&A Belgium's two U.S. channels of distribution are: 1) Direct sales by AS USA of made-to-order merchandise produced by U&A Belgium to end-users and unaffiliated distributors, and 2) warehouse sales by AS USA of merchandise imported from U&A Belgium and stocked by AS USA. See September 11, 2007, Section A, Volume I, Questionnaire Response at 16-17; see also April 15, 2008 SQR at 20. U&A Belgium performed several selling functions in the United States in connection with the sale of SSPC. The selling functions that U&A Belgium independently performed for its U.S. sales are limited to: handling product information and training sessions, freight arrangements, packing, and technical services. In addition, U&A Belgium and AS USA performed the following four sales functions jointly in both sales channels in the United States: Product information and training sessions, advertising to customers, freight arrangements, and after sales servicing support or claims. In our comparison of the U.S. and home market LOTs, we eliminated from consideration selling functions performed by AS USA and only considered the portion of the selling functions performed by U&A Belgium after making adjustments under section 772(d) of the Act.

Our analysis of these selling functions performed by U&A Belgium in the United States shows that the selling activities and services do not vary according to the type of customer for sales within each channel of distribution. Because we find that there is no variation in type or level of services provided by U&A Belgium for the channels of distribution in the United States, we preliminarily determine that there is only one LOT in the U.S. market. See “Sales Calculation Memorandum.” Moreover, we find that the distribution channels and selling functions reported by U&A Belgium for the instant review are consistent with those reported in the prior administrative review of SSPC from Belgium, in which case the Department determined that U&A Belgium sold through only one LOT in the U.S. market. See Memorandum entitled “Analysis for Ugine & ALZ, N.V. Belgium (U&A Belgium) for the Preliminary Results of the Fifth Administrative Review of Stainless Steel Plate in Coils (SSPC) from Belgium,” dated May 31, 2005, at 2.

U&A Belgium and its affiliated agent for global sale and distribution of stainless steel flat products produced in Belgium and France, U&A S.A., perform all home market selling activities. Selling functions for the U.S. market, as indicated above, are primarily performed by AS USA, with the exception of two selling functions handled solely by U&A Belgium, and two selling functions that are performed jointly by Arcelor Stainless International (ASI), AS USA, and U&A S.A. We compared the U.S. and home market LOTs and preliminarily determined that, after eliminating from consideration selling functions performed by AS USA (pursuant to section 772(d) of the Act), U&A Belgium's home market LOT is at a more advanced stage of distribution than the CEP LOT. Due to the proprietary nature of the discussion, see the “Sales Calculation Memorandum” for additional detail.

We then considered whether we could make a LOT adjustment. In this case, U&A Belgium only sold at one LOT in the comparison market; therefore, there is no information available to determine a pattern of consistent price differences between the sales on which NV is based and the comparison market sales at the LOT of the export transaction, in accordance with the Department's normal methodology as described above. See 19 CFR 351.412(d). Further, we do not have record information which would allow us to examine pricing patterns based on the respondent's sales of other products, and there are no other respondents or other record information on which such an analysis could be based. Accordingly, because only one LOT exists in the home market we could not make a LOT adjustment. However, because the LOT in the comparison market is at a more advanced stage of distribution than the LOT of the CEP transactions, we made a CEP offset adjustment in accordance with section 773(a)(7)(B) of the Act and 19 CFR 351.412(f). This offset is equal to the amount of indirect selling expenses incurred in the comparison market not exceeding the amount of indirect selling expenses and commissions deducted from the U.S. price in accordance with section 772(d)(1)(D) of the Act. For a detailed discussion, see “Sales Calculation Memorandum.”

Currency Conversion

We made currency conversions pursuant to 19 CFR 351.415 based on the exchange rates certified by the Federal Reserve Bank.

Preliminary Results of Review

We preliminarily determine that for the period May 1, 2006, through April 30, 2007, the following dumping margin exists:

Manufacturer/Exporter | Margin (percent)
U&A Belgium | 12.68

Duty Assessment and Cash Deposit Requirements

The Department shall determine, and CBP shall assess, antidumping duties on all appropriate entries. Pursuant to 19 CFR 351.212(b), the Department calculates an assessment rate for each importer of the subject merchandise for each respondent. The Department will issue appropriate assessment instructions directly to CBP within 15 days of publication of the final results of this review.

Furthermore, the following cash deposit rates will be effective with respect to all shipments of SSPC from Belgium entered, or withdrawn from warehouse, for consumption on or after the publication date of the final results, as provided for by section 751(a)(1) of the Act: (1) For U&A Belgium, the cash deposit rate will be the rate established in the final results of this review; (2) for previously reviewed or investigated companies not listed above, the cash deposit rate will be the company-specific rate established for the most recent period; (3) if the exporter is not a firm covered in this review, a prior review, or the less-than-fair-value (LTFV) investigation, but the manufacturer is, the cash deposit rate will be the rate established for the most recent period for the manufacturer of the subject merchandise; and (4) if neither the exporter nor the manufacturer is a firm covered by this review, a prior review, or the LTFV investigation, the cash deposit rate shall be the all-others rate established in the LTFV investigation, which is 9.86 percent. See Notice of Final Determination of Sales at Less Than Fair Value: Stainless Steel Plate in Coils From Belgium, 64 FR 15476 (March 31, 1999). These deposit rates, when imposed, shall remain in effect until further notice.

Public Comment

Pursuant to 19 CFR 351.224(b), the Department will disclose to parties to the proceeding any calculations performed in connection with these preliminary results within five days after the date of publication of this notice. Pursuant to 19 CFR 351.309, interested parties may submit written comments in response to these preliminary results. Unless extended by the Department, case briefs are to be submitted within 30 days after the date of publication of this notice, and rebuttal briefs, limited to arguments raised in case briefs, are to be submitted no later than five days after the time limit for filing case briefs. Parties who submit arguments in this proceeding are requested to submit with the argument: (1) a statement of the issues, and (2) a brief summary of the argument. Case and rebuttal briefs must be served on interested parties in accordance with 19 CFR 351.303(f).

Also, pursuant to 19 CFR 351.310(c), within 30 days of the date of publication of this notice, interested parties may request a public hearing on arguments to be raised in the case and rebuttal briefs. Unless the Secretary specifies otherwise, the hearing, if requested, will be held two days after the date for submission of rebuttal briefs. Parties will be notified of the time and location. The Department will publish the final results of this administrative review, including the results of its analysis of issues raised in any case or rebuttal brief, no later than 120 days after publication of these preliminary results, unless extended. See 19 CFR 351.213(h).

Notification to Importers

This notice serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

These preliminary results of this administrative review and notice are issued and published in accordance with sections 751(a)(1) and 777(i)(1) of the Act.

Dated: May 30, 2008.
David M. Spooner,
Assistant Secretary for Import Administration.

[FR Doc. E8-12779 Filed 6-5-08; 8:45 am]

BILLING CODE 3510-DS-P